DEPARTMENT OF HEALTH AND HUMAN SERVICES

National Institutes of Health

Office of The Director, National Institutes of Health; Amended Notice of Meeting

Notice is hereby given of a change in the meeting of the Council of Councils, January 19, 2023, 10:15 a.m., to January 20, 2023, 2 p.m., which was published in the Federal Register on December 5, 2022, 87 FR 74432.

Meeting is being amended to change the meeting end times, for January 19, 2023, from 3:45 p.m. to 3:15 p.m., and January 20, 2023, from 2 p.m. to 1:45 p.m. The meeting is partially closed to the public.

Dated: January 10, 2023.
David W. Freeman,
Program Analyst, Office of Federal Advisory Committee Policy.

[FR Doc. 2023-00700 Filed 1-13-23; 8:45 am]

BILLING CODE 4140-01-P